NATIONAL TRANSPORTATION SAFETY BOARD

Attentive Driving: Countermeasures for Distraction Forum

The National Transportation Safety Board (NTSB) will convene a forum, Attentive Driving: Countermeasures for Distraction, which will begin at 8:30 a.m., Tuesday, March 27, 2012. NTSB Chairman Deborah A.P. Hersman will serve as Chairman of the forum, and all five NTSB Board Members will serve as members of the Board of Inquiry. The forum is open to all and attendance is free (no registration). The forum will be streamed live via Webcast. Webcast archives are generally available by the end of the next day are archived for a period of 3 months from the date of the event.

Distracted driving is a serious safety risk on our highways, as evidenced by both accident data and laboratory research. The purpose of this one-day forum is to examine countermeasures that can mitigate distracted driving behaviors. Forum panels will consider the findings of distracted driver research and will promote ongoing and future efforts to promote attentive driving and eliminate distracted driving accidents. Specific countermeasures to be addressed include distracted driving laws and enforcement, changing attitudes and behaviors through education and outreach, and technology and design countermeasures.

Expert panelists will include representatives of safety advocacy groups, vehicle manufacturers, law enforcement, government, and the research community. Below is the preliminary agenda:

Tuesday, March 27, 2012

Opening Remarks

Panel 1: Attention to Non-Driving Tasks

Panel 2: Distracted Driving Laws and Enforcement

Panel 3: Attentive Driving: Changing Attitudes and Behaviors

Panel 4: Technology and Design Countermeasures

Summary and Closing Remarks

The full agenda and list of participants can be found at: www.ntsb.gov/attentivedriving

The forum will be held in the NTSB Board Room and Conference Center, located at 429 L'Enfant Plaza E., SW., Washington, DC. The public can view the forum in person or by Webcast at www.ntsb.gov.

Individuals requesting specific accommodations should contact Ms. Rochelle Hall at (202) 314-6305 by Friday, March 23, 2012.

NTSB Media Contact: Mr. Terry Williams, (202) 314-6403 (Washington, DC), williat@ntsb.gov.

NTSB Forum Manager: Ms. Deborah Bruce, bruced@ntsb.gov.

March 9, 2012.
Candi R. Bing,
Federal Register Liaison Officer.

[FR Doc. 2012-6217 Filed 3-14-12; 8:45 am]

BILLING CODE 7533-01-P